DEPARTMENT OF HEALTH AND HUMAN SERVICES

Centers for Disease Control and Prevention

Workshop on Strengthening the Supply of Routinely Recommended Vaccines in the United States

The National Vaccine Advisory Committee (NVAC), of the Centers for Disease Control and Prevention (CDC), announces the following meeting.

In accordance with section 10(a)(2) of the Federal Advisory Committee Act (Pub. L. 92-463), the Centers for Disease Control and Prevention (CDC) announces the following meeting.

Name: Workshop on Strengthening the Supply of Routinely Recommended Vaccines in the United States.

Times and Dates: 8:30 a.m.—5 p.m., February 11, 2002. 8:30 a.m.—4 p.m., February 12, 2002.

Place: Omni Shoreham Hotel, 2500 Calvert Street, Washington, DC, Phone: 1-888-511-5743.

Status: Open to the public, limited only by the space available. The meeting rooms will accommodate approximately 200 people.

Purpose: The objectives of the Workshop are to define and describe the scope of the problem with vaccine supply in the United States; to identify and discuss possible contributing causes of and potential strategies to address the vaccine supply problem; and, to develop a limited number of pragmatic strategy options to address the vaccine supply issues in the United States.

Matters to be Discussed: Agenda items will include presentations and discussion including: an overview of the problems associated with vaccine supply; financial incentives for research, development, and production; review of the regulatory process; government-owned contractor-operated vaccine production facilities; vaccine stockpiles; liability protections; tailoring strategies to specific shortages; and, perspectives of constituencies.

Agenda items are subject to change as priorities dictate.

Contact Persons for More Information: Stephen Sepe and Jeanne Santoli, CDC, 1600 Clifton Road, NE, Atlanta, Georgia 30333, telephone 770-488-2040 (Sepe) and 404/639-8802 (Santoli). You may also visit the NVPO web site for additional information: www.cdc.gov/od/nvpo/calendar.

The Director, Management Analysis and Services Office, has been delegated the authority to sign Federal Register Notices pertaining to announcements of meetings and other committee management activities, for both the Centers for Disease Control and Prevention and the Agency for Toxic Substances and Disease Registry.

Dated: January 11, 2002.
Joseph E. Salter,
Acting Director, Management Analysis and Services Office, Centers for Disease Control and Prevention.

[FR Doc. 02-1221 Filed 1-18-02; 8:45 am]

BILLING CODE 4163-18-P